COMMITTEE FOR THE IMPLEMENTATION OF TEXTILE AGREEMENTS

Announcement of Import Limits for Certain Cotton, Wool, Man-Made Fiber, Silk Blend and Other Vegetable Fiber Textiles and Textile Products Produced or Manufactured in Taiwan

February 15, 2001.

AGENCY: Committee for the Implementation of Textile Agreements (CITA).

ACTION: Issuing a directive to the Commissioner of Customs establishing limits.

EFFECTIVE DATE: February 21, 2001.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

A notice published in the Federal Register on December 29, 2000 (65 FR 82978), established limits for the period January 1, 2001 through March 31, 2001, per the Bilateral Textile Agreement, effected by exchange of letters dated January 10, 1997, May 2, 1997 and December 10, 1997, as amended and extended, concerning textiles and textile products, produced or manufactured in Taiwan. This directive cancels and supersedes that directive.

The Memorandum of Understanding, dated February 9, 2001, between the Governments of the United States and Taiwan establishes new limits for the period January 1, 2001 through December 31, 2001. It also removes Category 622 from Group I and gives it an individual limit.

In the letter published below, the Chairman of CITA directs the Commissioner of Customs to establish the 2001 limits.

These limits may be revised if Taiwan becomes a member of the World Trade Organization (WTO) and the WTO agreement is applied to Taiwan.

A description of the textile and apparel categories in terms of HTS numbers is available in the CORRELATION: Textile and Apparel Categories with the Harmonized Tariff Schedule of the United States (see Federal Register notice 65 FR 82328, published on December 28, 2000).

D. Michael Hutchinson,
Acting Chairman, Committee for the Implementation of Textile Agreements.

Committee for the Implementation of Textile Agreements

February 15, 2001.

Commissioner of Customs,

Department of the Treasury, Washington, DC 20229.

Dear Commissioner: This directive cancels and supersedes the directive issued to you on December 26, 2000. Pursuant to section 204 of the Agricultural Act of 1956, as amended (7 U.S.C. 1854); Executive Order 11651 of March 3, 1972, as amended; and the Bilateral Textile Agreement, effected by the Memorandum of Understanding, dated February 9, 2001, between the Governments of the United States and Taiwan, you are directed to prohibit, effective on February 21, 2001, entry into the United States for consumption and withdrawal from warehouse for consumption of cotton, wool, man-made fiber, silk blend and other vegetable fiber textiles and textile products in the following categories, produced or manufactured in Taiwan and exported during the twelve-month period which began on January 1, 2001 and extends through December 31, 2001, in excess of the following levels of restraint:

Category | Twelve-month limit
Group I
200-224, 225/317/326, 226, 227, 229, 300/301/607, 313-315, 360-363, 369-L/670-L/870 ¹, 369-S ², 369-O ³, 400-414, 464-469, 600-606, 611, 613/614/615/617, 618, 619/620, 621, 623, 624, 625/626/627/628/629, 665, 666, 669-P ⁴, 669-T ⁵, 669-O ⁶, 670-H ⁷ and 670-O ⁸, as a group | 590,414,162 square meters equivalent.
Sublevels in Group I
218 | 22,757,291 square meters.
225/317/326 | 40,394,130 square meters.
226 | 7,330,245 square meters.
300/301/607 | 1,766,924 kilograms of which not more than 1,472,437 kilograms shall be in Category 300; not more than 1,472,437 kilograms shall be in Category 301; and not more than 1,472,437 kilograms shall be in Category 607.
363 | 12,267,896 numbers.
369-L/670-L/870 | 50,978,346 kilograms.
611 | 3,280,217 square meters.
613/614/615/617 | 20,343,581 square meters.
619/620 | 14,952,847 square meters.
625/626/627/628/629 | 19,457,186 square meters.
669-P | 353,724 kilograms.
669-T | 1,149,681 kilograms.
670-H | 19,520,976 kilograms.
Group I subgroup
200, 219, 313, 314, 315, 361, 369-S and 604, as a group | 150,152,129 square meters equivalent.
Within Group I subgroup
200 | 735,331 kilograms.
219 | 16,735,410 square meters.
313 | 67,991,225 square meters.
314 | 29,810,202 square meters.
315 | 22,842,212 square meters.
361 | 1,477,119 numbers.
369-S | 490,037 kilograms.
604 | 235,788 kilograms.
Group II
237, 239, 330-332, 333/334/335, 336, 338/339, 340-345, 347/348, 349, 350/650, 351, 352/652, 353, 354, 359-C/659-C ⁹, 359-H/659-H ¹⁰, 359-O ¹¹, 431-444, 445/446, 447/448, 459, 630-632, 633/634/635, 636, 638/639, 640, 641-644, 645/646, 647/648, 649, 651, 653, 654, 659-S ¹², 659-O ¹³, 831-844 and 846-859, as a group | 755,000,000 square meters equivalent.
Sublevels in Group II
237 | 718,428 dozen.
239 | 5,889,744 kilograms.
331 | 514,862 dozen pairs.
336 | 122,400 dozen.
338/339 | 818,999 dozen.
340 | 1,122,271 dozen.
345 | 127,893 dozen.
347/348 | 1,064,931 dozen of which not more than 1,064,931 dozen shall be in Categories 347-W/348-W ¹⁴.
352/652 | 3,247,391 dozen.
359-C/659-C | 1,447,633 kilograms.
359-H/659-H | 4,867,714 kilograms.
433 | 15,546 dozen.
434 | 10,796 dozen.
435 | 25,633 dozen.
436 | 5,104 dozen.
438 | 28,807 dozen.
440 | 5,580 dozen.
442 | 43,827 dozen.
443 | 43,526 numbers.
444 | 61,991 numbers.
445/446 | 137,462 dozen.
631 | 5,165,759 dozen pairs.
633/634/635 | 1,634,440 dozen of which not more than 959,317 dozen shall be in Categories 633/634 and not more than 850,077 dozen shall be in Category 635.
638/639 | 6,565,058 dozen.
640 | 1,058,909 dozen of which not more than 281,710 dozen shall be in Category 640-Y ¹⁵.
642 | 777,133 dozen.
643 | 517,986 numbers.
644 | 779,385 numbers.
645/646 | 4,107,691 dozen.
647/648 | 5,248,544 dozen of which not more than 5,248,544 dozen shall be in Categories 647-W/648-W ¹⁶.
659-S | 1,601,702 kilograms.
835 | 20,483 dozen.
Group II Subgroup
333/334/335, 341, 342, 350/650, 351, 447/448, 636, 641 and 651, as a group | 78,202,812 square meters equivalent.
Within Group II Subgroup
333/334/335 | 314,899 dozen of which not more than 170,571 dozen shall be in Category 335.
341 | 343,328 dozen.
342 | 214,478 dozen.
350/650 | 139,460 dozen.
351 | 356,821 dozen.
447/448 | 21,242 dozen.
636 | 391,224 dozen.
641 | 732,543 dozen of which not more than 256,390 dozen shall be in Category 641-Y ¹⁷.
651 | 447,478 dozen.
Group III
Sublevel in Group III
845 | 853,769 dozen.
Specific Limit not in a Group
622 | 2,650,000 square meters.
¹ Category 870; Category 369-L: only HTS numbers 4202.12.4000, 4202.12.8020, 4202.12.8060, 4202.92.1500, 4202.92.3016, 4202.92.6091 and 6307.90.9905; Category 670-L: only HTS numbers 4202.12.8030, 4202.12.8070, 4202.92.3020, 4202.92.3031, 4202.92.9026 and 6307.90.9907.
² Category 369-S: only HTS number 6307.10.2005.
³ Category 369-O: all HTS numbers except 4202.12.4000, 4202.12.8020, 4202.12.8060, 4202.92.1500, 4202.92.3016, 4202.92.6091, 6307.90.9905 (Category 369-L); and 6307.10.2005 (Category 369-S).
⁴ Category 669-P: only HTS numbers 6305.32.0010, 6305.32.0020, 6305.33.0010, 6305.33.0020 and 6305.39.0000.
⁵ Category 669-T: only HTS numbers 6306.12.0000, 6306.19.0010 and 6306.22.9030.
⁶ Category 669-O: all HTS numbers except 6305.32.0010, 6305.32.0020, 6305.33.0010, 6305.33.0020, 6305.39.0000 (Category 669-P); 6306.12.0000, 6306.19.0010 and 6306.22.9030 (Category 669-T).
⁷ Category 670-H: only HTS numbers 4202.22.4030 and 4202.22.8050.
⁸ Category 670-O: all HTS numbers except 4202.22.4030, 4202.22.8050 (Category 670-H); 4202.12.8030, 4202.12.8070, 4202.92.3020, 4202.92.3031, 4202.92.9026 and 6307.90.9907 (Category 670-L).
⁹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
¹⁰ Category 359-H: only HTS numbers 6505.90.1540 and 6505.90.2060; Category 659-H: only HTS numbers 6502.00.9030, 6504.00.9015, 6504.00.9060, 6505.90.5090, 6505.90.6090, 6505.90.7090 and 6505.90.8090.
¹¹ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6505.90.1540 and 6505.90.2060 (Category 359-H).
¹² Category 659-S: only HTS numbers 6112.31.0010, 6112.31.0020, 6112.41.0010, 6112.41.0020, 6112.41.0030, 6112.41.0040, 6211.11.1010, 6211.11.1020, 6211.12.1010 and 6211.12.1020.
¹³ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
¹⁴ Category 347-W: only HTS numbers 6203.19.1020, 6203.19.9020, 6203.22.3020, 6203.22.3030, 6203.42.4005, 6203.42.4010, 6203.42.4015, 6203.42.4025, 6203.42.4035, 6203.42.4045, 6203.42.4050, 6203.42.4060, 6203.49.8020, 6210.40.9033, 6211.20.1520, 6211.20.3810 and 6211.32.0040; Category 348-W: only HTS numbers 6204.12.0030, 6204.19.8030, 6204.22.3040, 6204.22.3050, 6204.29.4034, 6204.62.3000, 6204.62.4005, 6204.62.4010, 6204.62.4020, 6204.62.4030, 6204.62.4040, 6204.62.4050, 6204.62.4055, 6204.62.4065, 6204.69.6010, 6204.69.9010, 6210.50.9060, 6211.20.1550, 6211.20.6810, 6211.42.0030 and 6217.90.9050.
¹⁵ Category 640-Y: only HTS numbers 6205.30.2010, 6205.30.2020, 6205.30.2050 and 6205.30.2060.
¹⁶ Category 647-W: only HTS numbers 6203.23.0060, 6203.23.0070, 6203.29.2030, 6203.29.2035, 6203.43.2500, 6203.43.3500, 6203.43.4010, 6203.43.4020, 6203.43.4030, 6203.43.4040, 6203.49.1500, 6203.49.2015, 6203.49.2030, 6203.49.2045, 6203.49.2060, 6203.49.8030, 6210.40.5030, 6211.20.1525, 6211.20.3820 and 6211.33.0030; Category 648-W: only HTS numbers 6204.23.0040, 6204.23.0045, 6204.29.2020, 6204.29.2025, 6204.29.4038, 6204.63.2000, 6204.63.3000, 6204.63.3510, 6204.63.3530, 6204.63.3532, 6204.63.3540, 6204.69.2510, 6204.69.2530, 6204.69.2540, 6204.69.2560, 6204.69.6030, 6204.69.9030, 6210.50.5035, 6211.20.1555, 6211.20.6820, 6211.43.0040 and 6217.90.9060.
¹⁷ Category 641-Y: only HTS numbers 6204.23.0050, 6204.29.2030, 6206.40.3010 and 6206.40.3025.

Also effective on February 21, 2001, imports from Taiwan in Category 622 that have already been charged to the Group I limit for the January 1, 2001 through March 31, 2001 restraint period, shall be deducted from the Group I limit and charged to the new one-year restraint limit for Category 622.

The limits set forth above are subject to adjustment pursuant to the current bilateral agreement concerning imports of textile and apparel products from Taiwan.

Products in the above categories exported during 2000 shall be charged to the applicable category limits for that year (see directive dated November 2, 1999) to the extent of any unfilled balances. In the event the limits established for that period have been exhausted by previous entries, such products shall be charged to the limits set forth in this directive.

These limits may be revised if Taiwan becomes a member of the World Trade Organization (WTO) and the WTO agreement is applied to Taiwan.

The conversion factors are as follows:

Category | Conversion factors (square meters equivalent/category unit)
300/301/607 | 8.5
333/334/335 | 33.75
352/652 | 11.3
359-C/659-C | 10.1
359-H/659-H | 11.5
369-L/670-L/870 | 3.8
633/634/635 | 34.1
638/639 | 12.5

In carrying out the above directions, the Commissioner of Customs should construe entry into the United States for consumption to include entry for consumption into the Commonwealth of Puerto Rico.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-4265 Filed 2-20-01; 8:45 am]

BILLING CODE 3510-DR-F